SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before October 29, 2020.

ADDRESSES: Comments should refer to the information collection by title and/or OMB Control Number and should be sent to: Agency Clearance Officer, Curtis Rich, Small Business Administration, 409 3rd Street SW, 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030, curtis.rich@sba.gov.

SUPPLEMENTARY INFORMATION:

Copies: You may obtain a copy of the information collection and supporting documents from the Agency Clearance Officer.

The STEP Client Report form is completed by state administrators in states that receive an SBA STEP grant in order to report data on the quarterly progress of STEP grant recipients and their clients. These data are used to understand how states have improved the trade and export activities and revenue outcomes of clients. Data from the STEP Client Report provides SBA with critical information about the impact of various strategies used to advance trade and export activities in each state. These data also provide an understanding of the specific ways in which funded activities meet SBA's goal of improving small business trade and export productivity. These data may inform strategies that can be replicated by other small businesses.

Title: SBA STEP Client Report Form.

OMB Control Number: N/A.

Description of Respondents: This form will be completed by the directors at approximately 90 STEP grant recipients.

Estimated Annual Responses: 360.

Estimated Annual Hour Burden: 360.

Curtis Rich,
Management Analyst.

[FR Doc. 2020-21494 Filed 9-28-20; 8:45 am]

BILLING CODE 8026-03-P